FEDERAL COMMUNICATIONS COMMISSION

47 CFR Part 64

[CG Docket No. 17-59; WC Docket No. 17-97; FCC 23-18; FCC 23-37; FR ID 196696]

Advanced Methods To Target and Eliminate Unlawful Robocalls, Call Authentication Trust Anchor

AGENCY: Federal Communications Commission.

ACTION: Final rule; announcement of effective and compliance dates.

SUMMARY: In this document, the Federal Communications Commission (Commission) announces that the Office of Management and Budget (OMB) has approved, for a period of three years, an information collection associated with the Commission's Sixth Caller ID Authentication Report and Order (Sixth Report and Order), FCC 23-18, and Seventh Caller ID Authentication Report and Order (Seventh Report and Order), FCC 23-37, in which the Commission, among other actions, expanded its non-internet Protocol call authentication and robocall mitigation database rules. This document is consistent with the Sixth Report and Order and Seventh Report and Order, which stated that the Commission would publish a document in the Federal Register announcing the effective date of these rules.

DATES: The amendments to 47 CFR 64.6303(c) (amendatory instruction 9) and 47 CFR 64.6305(d), (e), (f), and (g) (amendatory instruction 12), published at 88 FR 49006, June 21, 2023, and the amendments to 47 CFR 64.6305(d)(2)(ii) and (iii), (e)(2)(ii), and (f)(2)(iii) (amendatory instruction 5), published at 88 FR 43446, July 10, 2023, are effective February 26, 2024. The compliance date for 47 CFR 64.6305(g) is May 24, 2024.

FOR FURTHER INFORMATION CONTACT: Erik Beith, Competition Policy Division, Wireline Competition Bureau, at (202) 418-0756, or email: erik.beith@fcc.gov.

SUPPLEMENTARY INFORMATION: This document announces that, on November 7, 2023, OMB approved, for a period of three years, the information collection requirements relating to §§ 64.6303(c), 64.6305(d), (e), and (f) of the Commission's rules, as contained in the Commission's Sixth Report and Order, FCC 23-18, published at 88 FR 40096 on June 21, 2023, and Seventh Report and Order, FCC 23-37, published at 88 FR 43446 on July 10, 2023. The OMB Control Number is 3060-1285.

The effective date of the rules amending 47 CFR 64.6303(c) and 47 CFR 64.6305(d), (e), and (f) was delayed indefinitely in 88 FR 40096. The effective date of the rule amending 47 CFR 64.6305(g) was also delayed indefinitely because it contained a compliance date that could not be set until Federal Register notice of OMB approval of the information collection requirements associated with 47 CFR 64.6305(f). The effective date of the rule further amending 47 CFR 64.6305(d)(2)(ii) and (iii), (e)(2)(ii), and (f)(2)(iii) was delayed indefinitely in 88 FR 43446 pending Federal Register notice of OMB approval of the information collection requirements associated with the underlying amendments to 47 CFR 6305(d), (e), and (f). In the Sixth Report and Order and Seventh Report and Order, the Commission directed the Wireline Competition Bureau to announce the effective dates for these rule amendments.

The Commission publishes this document as an announcement of the effective dates of the amendments to 47 CFR 64.6303(c), 64.6305(d), (e), (f), and (g).

If you have any comments on the burden estimates listed below, or how the Commission can improve the collections and reduce any burdens caused thereby, please contact Nicole Ongele, Federal Communications Commission, 45 L Street NE, Washington, DC 20554. Please include the OMB Control Number, 3060-1285, in your correspondence. The Commission will also accept your comments via email at PRA@fcc.gov.

To request materials in accessible formats for people with disabilities (Braille, large print, electronic files, audio format), send an email to fcc504@fcc.gov or call the Consumer and Governmental Affairs Bureau at (202) 418-0530 (voice), (202) 418-0432 (TTY).

Synopsis

As required by the Paperwork Reduction Act of 1995 (44 U.S.C. 3507), the FCC is notifying the public that it received final OMB approval on November 7, 2023 for the information collection requirements contained in the modifications to the Commission's rules in 47 CFR part 64 (47 CFR 64.6303(c), 64.6305(d), (e), and (f)). These actions allow the Wireline Competition Bureau to announce the effective date of these rules, as well as for 47 CFR 64.6305(g).

Under 5 CFR part 1320, an agency may not conduct or sponsor a collection of information unless it displays a current, valid OMB Control Number.

No person shall be subject to any penalty for failing to comply with a collection of information subject to the Paperwork Reduction Act that does not display a current, valid OMB Control Number. The OMB Control Number is 3060-1285.

The foregoing notification is required by the Paperwork Reduction Act of 1995 (Pub. L. 104-13) October 1, 1995, and 44 U.S.C. 3507.

The total annual reporting burdens and costs for the respondents are as follows:

OMB Control Number: 3060-1285.

OMB Approval Date: November 7, 2023.

OMB Expiration Date: November 30, 2026.

Title: Compliance with the Non-IP Call Authentication Solutions Rules; Robocall Mitigation Database (RMD).

Form Number: N/A.

Respondents: Business or other for-profit entities.

Number of Respondents and Responses: 12,800 respondents; 12,800 responses.

Estimated Time per Response: 0.5-6 hours (on average).

Frequency of Response: Recordkeeping requirement and on-occasion and reporting requirement.

Obligation to Respond: Mandatory and required to obtain or retain benefits. The statutory authority for this information collection is contained in 47 U.S.C. 227(b), 251(e), and 227(e) of the Communications Act of 1934.

Total Annual Burden: 39,663 hours.

Total Annual Cost: No Cost.

Needs and Uses: Sections 227(b), 251(e), and 227(e) of the Communications Act of 1934, (“Act”) as amended, 47 U.S.C. 227(b), 251(e), and 227(e). On March 13, 2023, and May 19, 2023, respectively, the Commission released the Sixth Report and Order, FCC 23-18, published at 88 FR 40096, June 21, 2023, and the Seventh Report and Order, FCC 23-37, published at 88 43446, July 10, 2023, adopting final rules containing information collection requirements designed to promote caller ID authentication technology. These rules governing non-gateway intermediate providers, among other entities, implement the Pallone-Thune Telephone Robocall Abuse Criminal Enforcement and Deterrence Act (TRACED Act), promote the deployment of caller ID authentication technology, and combat the practice of illegal caller ID spoofing.

List of Subjects in 47 CFR Part 64

Carrier equipment, Communications common carriers, Reporting and recordkeeping requirements, Telecommunications, Telephone.

Federal Communications Commission.
Marlene Dortch,
Secretary.

[FR Doc. 2024-01167 Filed 1-24-24; 8:45 am]

BILLING CODE 6712-01-P